ENVIRONMENTAL PROTECTION AGENCY

[FRL-9929-41-ORD]

Final Release of EPA's Report on the Environment (ROE)

AGENCY: Environmental Protection Agency (EPA).

ACTION: Notice of availability.

SUMMARY: The U.S. Environmental Protection Agency (EPA) is announcing the availability of the final web-based, “Report on the Environment (ROE)” (EPA/600/R-15/142). The ROE was prepared by the National Center for Environmental Assessment within EPA's Office of Research and Development, working in collaboration with EPA Program and Regional offices. The ROE is a comprehensive source of scientific indicators that describe the status and trends in the nation's environment and human health condition. The indicators help to answer important questions for EPA about the current status and historical trends in U.S. air, water, land, human health, and ecological condition at the national and regional levels. These indicators are based on data collected by EPA, other federal and state agencies, and non-governmental organizations and meet high standards for data quality, objectivity, and utility. The ROE reports status and trends; it does not analyze or diagnose the reasons for, and relationships between, trends in stressors and environmental and health outcomes.

The final ROE can be accessed at the following Web site: http://www.epa.gov/roe.

DATES: EPA released the report publicly on July 20, 2015.

ADDRESSES: The ROE is web-based and is available solely via the Internet at: http://www.epa.gov/roe.

FOR FURTHER INFORMATION CONTACT: For additional information concerning the ROE, contact Dr. Patricia Murphy, NCEA; telephone: 732-906-6830; facsimile: 732-452-6640; or email: murphy.patricia@epa.gov.

SUPPLEMENTARY INFORMATION:

Information About the Project/Document

EPA's Report on the Environment (ROE) is a comprehensive source of scientific indicators that describe the status and trends in the nation's environment and human health condition. The indicators help to answer important questions for EPA about the current status and historical trends in U.S. air, water, land, human health, and ecological conditions at the national and, where possible, regional levels. These indicators are based on data collected by EPA, other federal and state agencies, and non-governmental organizations and meet high standards for data quality, objectivity, and utility. The ROE reports status and trends; it does not analyze or diagnose the reasons for, and relationships between, trends in stressors and environmental and health outcomes.

Since its earliest release in 2003, the ROE has undergone periodic updates and restructurings. The latest version features several significant changes, the most notable being that the ROE is fully online, allowing it to be more interactive and accessible. Users can customize graphics and pan and zoom on maps. For certain indicators, users can now choose to view statistical information about the data by simply clicking display options. Additionally, new indicators fill information gaps, which previously lacked reliable, long-term data. The draft ROE 2014 was released in March 2014 and was peer-reviewed by EPA's Science Advisory Board in July 2014. The final ROE can be found at: http://www.epa.gov/roe.

Dated: July 14, 2015.
Chris Saint,
Acting Deputy Director, National Center for Environmental Assessment.

[FR Doc. 2015-18226 Filed 7-23-15; 8:45 am]

BILLING CODE 6560-50-P